DEPARTMENT OF THE TREASURY

Internal Revenue Service

Open Meeting of the Area 1 Taxpayer Advocacy Panel (Including the States of New York, Connecticut, Massachusetts, Rhode Island, New Hampshire, Vermont and Maine)

AGENCY: Internal Revenue Service (IRS), Treasury.

ACTION: Notice.

SUMMARY: An open meeting of the Area 1 Taxpayer Advocacy Panel will be conducted in Portsmouth, New Hampshire. The Taxpayer Advocacy Panel is soliciting public comments, ideas and suggestions on improving customer service at the Internal Revenue Service.

DATES: The meeting will be held Monday, June 7 and Tuesday, June 8, 2004.

FOR FURTHER INFORMATION CONTACT: Marisa Knispel at 1-888-912-1227 (toll-free), or 718-488-3557 (non toll-free).

SUPPLEMENTARY INFORMATION: An open meeting of the Area 1 Taxpayer Advocacy Panel will be held Monday, June 7, 2004 from 9 a.m. EDT to 5 p.m. EDT and Tuesday, June 8, 2004 from 8 a.m. EDT to 12 p.m. EDT in Portsmouth, New Hampshire at the Courtyard Marriott Hotel located at 1000 Market Street, Building Three, Portsmouth, NH 03801. Individual comments are welcomed and will be limited to 5 minutes per person. If you would like to have the TAP consider a written statement write Marisa Knispel, TAP Office, 10 MetroTech Center, 625 Fulton Street, Brooklyn, NY 11201, or, you may post comments to the Web site: http://www.improveirs.org.

The agenda will include: Various IRS issues.

Dated: May 6, 2004.
Tersheia Carter,
Acting Director, Taxpayer Advocacy Panel.

[FR Doc. 04-10796 Filed 5-11-04; 8:45 am]

BILLING CODE 4830-01-P